DEPARTMENT OF LABOR

Employment and Training Administration

[TA-W-65,901]

VWR International, LLC, West Chester, PA; Notice of Termination of Investigation

Pursuant to Section 221 of the Trade Act of 1974, as amended, an investigation was initiated on May 7, 2009 in response to a petition filed by a state workforce official on behalf of workers of VWR International, LLC, West Chester, Pennsylvania.

The petitioner has requested that the petition be withdrawn. Therefore, the investigation under this petition has been terminated.

Signed at Washington, DC, this 18th day of May, 2009.
Linda G. Poole,
Certifying Officer, Division of Trade Adjustment Assistance.

[FR Doc. E9-15212 Filed 6-26-09; 8:45 am]

BILLING CODE 4510-FN-P